DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration (SAMHSA) will publish periodic summaries of proposed projects. To request more information on the proposed projects or to obtain a copy of the information collection plans, call the SAMHSA Reports Clearance Officer on (240) 276-1243.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: 2012 National Survey on Drug Use and Health—(OMB No. 0930-0110)—Revision

The National Survey on Drug Use and Health (NSDUH) is a survey of the civilian, non-institutionalized population of the United States 12 years old and older. The data are used to determine the prevalence of use of tobacco products, alcohol, illicit substances, and illicit use of prescription drugs. The results are used by SAMHSA, ONDCP, Federal government agencies, and other organizations and researchers to establish policy, direct program activities, and better allocate resources.

The 2012 and 2013 NSDUHs will continue conducting a follow-up clinical interview with a subsample of approximately 1,500 respondents. The design of this Mental Health Surveillance Study (MHSS) is based on the recommendations from a panel of expert consultants convened by the Center for Mental Health Services (CMHS), SAMHSA, to discuss mental health surveillance data collection strategies. The goal is to create a statistically sound measure that may be used to estimate the prevalence of Serious Mental Illness (SMI) among adults (age 18+).

For the 2012 and 2013 NSDUHs, no questionnaire changes are proposed.

As with all NSDUH/NHSDA surveys conducted since 1999, the sample size of the survey for 2012 and 2013 will be sufficient to permit prevalence estimates for each of the fifty states and the District of Columbia. The total annual burden estimate is shown below:

Estimated Annual Burden for 2012/2013 NSDUH
Instrument | No. of respondents | Responses per respondent | Hours per response | Total burden hours | Hourly wage rate | Annualized hourly costs
Household Screening | 191,100 | 1 | 0.083 | 15,861 | $14.71 | $233,315
Interview | 67,500 | 1 | 1.000 | 67,500 | 14.71 | 992,925
Clinical Follow-up Certification | 90 | 1 | 1.000 | 90 | 14.71 | 1,324
Clinical Follow-up Interview | 1,500 | 1 | 1.000 | 1,500 | 14.71 | 22,065
Screening Verification | 5,400 | 1 | 0.067 | 362 | 14.71 | 5,325
Interview Verification | 10,125 | 1 | 0.067 | 678 | 14.71 | 9,973
Total | 191,190 |  |  | 85,991 |  | 1,264,927

Send comments to Summer King, SAMHSA Reports Clearance Officer, Room 8-1099, One Choke Cherry Road, Rockville, MD 20857 And e-mail a copy to summer.king@samhsa.hhs.gov. Written comments should be received within 60 days of this notice.

Dated: March 30, 2011.
Elaine Parry,
Director, Office of Management, Technology and Operations.

[FR Doc. 2011-8293 Filed 4-6-11; 8:45 am]

BILLING CODE 4162-20-P